DEPARTMENT OF TRANSPORTATION

Federal Highway Administration

[Docket No. FHWA-2023-0003]

Agency Information Collection Activities: Request for Comments for a New Information Collection; Withdrawal

AGENCY: Federal Highway Administration (FHWA), Department of Transportation (DOT).

ACTION: Notice; withdrawal.

SUMMARY: The FHWA is withdrawing the notice, “Agency Information Collection Activities: Request for Comments for a New Information Collection,” published in the Federal Register on February 8, 2023.

FOR FURTHER INFORMATION CONTACT: Janelle Hinton, (202) 366 1604/janelle.hinton@dot.gov; Martha Kenley, (202) 604-6979/martha.kenley@dot.gov, Department of Transportation, Federal Highway Administration, Office of Civil Rights, 1200 New Jersey Avenue SE, Washington, DC 20590. Office hours are from 8 a.m. to 5 p.m., Monday through Friday, except Federal holidays.

SUPPLEMENTARY INFORMATION: The FHWA is withdrawing the notice published in the Federal Register on February 8, 2023 at 88 FR 8339 (FR Number 2023-02640).

Issued on: September 7, 2023.
Jazmyne Lewis,
Information Collection Officer.

[FR Doc. 2023-19717 Filed 9-14-23; 8:45 am]

BILLING CODE 4910-22-P